NUCLEAR REGULATORY COMMISSION

[Docket No. 52-039; NRC-2008-0603]

PPL Bell Bend, LLC; Combined License Application for Bell Bend Nuclear Power Plant; Exemption

1.0 Background

PPL Bell Bend, LLC, submitted to the U.S. Nuclear Regulatory Commission (NRC) a combined license application (COL) for a single unit of AREVA NP's U.S. EPR in accordance with the requirements of Title 10 of the Code of Federal Regulations (10 CFR), Subpart C of Part 52, “Licenses, Certifications, and Approvals for Nuclear Power Plants.” This reactor is to be identified as Bell Bend Nuclear Power Plant (BBNPP), in Salem County, Pennsylvania. The NRC docketed the BBNPP COL application on October 10, 2008. The BBNPP COL application incorporates by reference AREVA NP's application for a standard design certification for the U.S. EPR. Additionally, the BBNPP COL application is based upon the U.S. EPR reference COL (RCOL) application for UniStar's Calvert Cliffs Nuclear Power Plant, Unit 3 (CCNPP3). The NRC is currently performing the detailed reviews of the CCNPP3 RCOL application, and AREVA NP's application for design certification of the U.S. EPR. PPL Bell Bend, LLC previously requested an exemption on October 21, 2011, pursuant to 10 CFR 50.71(e)(3)(iii) to allow for late filing of their mandatory application revision for calendar year 2011. The NRC granted the exemption as described in Federal Register notice (FRN) 76 FR 81992 (December 29, 2011).

2.0 Request/Action

The regulations specified in 10 CFR 50.71(e)(3)(iii), require that an applicant for a combined license under 10 CFR part 52 shall, during the period from docketing of a COL application until the Commission makes a finding under 10 CFR 52.103(g) pertaining to facility operation, submit an annual update to the application's Final Safety Analysis Report (FSAR).

On March 30, 2012, PPL Bell Bend, LLC submitted Revision 3 to the COL application, including updates to the FSAR. Since this submittal was provided to satisfy their approved exemption of December 29, 2011, the next annual update is due by the end of calendar year 2012. PPL Bell Bend, LLC has again requested a one-time exemption from the 10 CFR 50.71(e)(3)(iii) requirements to submit the scheduled 2012 update, and proposed a new submittal deadline of April 15, 2013, for the next FSAR update.

In summary, the 2012 requested exemption is a one-time schedule change from the requirements of 10 CFR 50.71(e)(3)(iii). The exemption would allow PPL Bell Bend, LLC to submit the next FSAR update at a later date. The current FSAR update schedule could not be changed, absent the exemption. PPL Bell Bend, LLC requested the exemption by letter dated November 2, 2012 (Agencywide Documents Access and Management System (ADAMS) Accession No. ML12321A037). Documents related to this action, including the application for amendment and supporting documentation, are available electronically at the NRC's Electronic Reading Room at http://www.nrc.gov/reading-rm/adams.html. From this site, you can access ADAMS, which provides text and image files of NRC's public documents. The ADAMS accession numbers for the documents related to this notice are ML12325A753 and ML12325A841.

3.0 Discussion

Pursuant to 10 CFR 50.12, the NRC may, upon application by any interested person or upon its own initiative, grant exemptions from the requirements of 10 CFR part 50, including Section 50.71(e)(3)(iii) when: (1) The exemptions are authorized by law, will not present an undue risk to public health or safety, and are consistent with the common defense and security; and (2) special circumstances are present. As relevant to the requested exemption, special circumstances exist if: (1) “Application of the regulation in the particular circumstances would not serve the underlying purpose of the rule or is not necessary to achieve the underlying purpose of the rule” (10 CFR 50.12(a)(2)(ii)); or (2) “The exemption would provide only temporary relief from the applicable regulation and the licensee or applicant has made good faith efforts to comply with the regulation” (10 CFR 50.12(a)(2)(v)).

PPL Bell Bend, LLC, commits to submit the next COL FSAR update by April 15, 2013, and would need to identify all changes to the U.S. EPR FSAR in order to prepare a COL application FSAR revision that accurately and completely reflects the changes to the U.S. EPR FSAR.

The requested one-time schedule exemption to defer submittal of the next update to the BBNPP COL application FSAR would provide only temporary relief from the regulations of 10 CFR 50.71(e)(3)(iii).

Authorized by Law

The exemption is a one-time schedule exemption from the requirements of 10 CFR 50.71(e)(3)(iii). The exemption would allow PPL Bell Bend, LLC to submit the next BBNPP COL application FSAR update on or before April 15, 2013. Pursuant to 10 CFR 50.12, the NRC staff has determined that granting PPL Bell Bend, LLC, the requested one-time exemption from the requirements of 10 CFR 50.71(e)(3)(iii) will provide only temporary relief from this regulation and will not result in a violation of the Atomic Energy Act of 1954, as amended, or the NRC's regulations. Therefore, the exemption is authorized by law.

No Undue Risk to Public Health and Safety

The underlying purpose of 10 CFR 50.71(e)(3)(iii) is to provide for a timely and comprehensive update of the FSAR associated with a COL application in order to support an effective and efficient review by the NRC staff and issuance of the NRC staff's safety evaluation report (SER). The requested exemption is solely administrative in nature, in that it pertains to the schedule for submittal to the NRC of revisions to an application under 10 CFR part 52, for which a license has not been granted. Based on the nature of the requested exemption as described above, no new accident precursors are created by the exemption; thus, neither the probability, nor the consequences of postulated accidents are increased. Therefore, there is no undue risk to public health and safety.

Consistent With Common Defense and Security

The requested exemption would allow PPL Bell Bend, LLC to submit the next FSAR update on or before April 15, 2013. This schedule change has no relation to security issues. Therefore, the common defense and security is not impacted by this exemption.

Special Circumstances

Special circumstances, in accordance with 10 CFR 50.12(a)(2), are present whenever: (1) “Application of the regulation in the particular circumstances would not serve the underlying purpose of the rule or is not necessary to achieve the underlying purpose of the rule” (10 CFR 50.12(a)(2)(ii)); or (2) “The exemption would provide only temporary relief from the applicable regulation and the licensee or applicant has made good faith efforts to comply with the regulation” (10 CFR 50.12(a)(2)(v)).

The underlying purpose of 10 CFR 50.71(e)(3)(iii) is to provide for a timely and comprehensive update of the FSAR associated with a COL application in order to support an effective and efficient review by the NRC staff and issuance of the NRC staff's SER. As discussed above, the requested one-time exemption is solely administrative in nature, in that it pertains to a one-time schedule change for submittal of revisions to an application under 10 CFR part 52, for which a license has not been granted. The requested one-time exemption will permit PPL Bell Bend, LLC, time to carefully review the most recent revisions of the U.S. EPR FSAR, and fully incorporate these revisions into a comprehensive update of the FSAR associated with the BBNPP COL application. This one-time exemption will support the NRC staff's effective and efficient review of the COL application when resumed, as well as issuance of the SER. For this reason, application of 10 CFR 50.71(e)(3)(iii) in the particular circumstances is not necessary to achieve the underlying purpose of that rule. Therefore, special circumstances exist under 10 CFR 50.12(a)(2)(ii). In addition, special circumstances are also present under 10 CFR 50.12(a)(2)(v), because granting a one-time exemption from 10 CFR 50.71(e)(3)(iii) would provide only temporary relief, and PPL Bell Bend, LLC, has made good faith efforts to comply with the regulation by submitting Revision 3 to the COL application on March 30, 2012. That revision incorporated changes resulting from Revisions 2 and 3 of the U.S. EPR FSAR and COLA changes resulting from relocation of the plant footprint within the existing project boundary. For the above reasons, the special circumstances required by 10 CFR 50.12(a)(2) for the granting of an exemption from 10 CFR 50.71(e)(3)(iii) exist.

Eligibility for Categorical Exclusion From Environmental Review

With respect to the exemption's impact on the human environment, the NRC has determined that this specific exemption request is eligible for categorical exclusion as identified in 10 CFR 51.22(c)(25). Under 10 CFR 51.22(c)(25), granting of an exemption from the requirements of any regulation of 10 CFR Chapter 1 [which includes 10 CFR 50.71(e)(3)(iii)] is an action that is a categorical exclusion, provided that:

(i) There is no significant hazards consideration;

(ii) There is no significant change in the types or significant increase in the amounts of any effluents that may be released offsite;

(iii) There is no significant increase in individual or cumulative public or occupational radiation exposure;

(iv) There is no significant construction impact;

(v) There is no significant increase in the potential for or consequences from radiological accidents; and

(vi) The requirements from which an exemption is sought involve:

(A) Recordkeeping requirements;

(B) Reporting requirements;

(C) Inspection or surveillance requirements;

(D) Equipment servicing or maintenance scheduling requirements;

(E) Education, training, experience, qualification, requalification or other employment suitability requirements;

(F) Safeguard plans, and materials control and accounting inventory scheduling requirements;

(G) Scheduling requirements;

(H) Surety, insurance or indemnity requirements; or

(I) Other requirements of an administrative, managerial, or organizational nature.

The requirements from which this exemption is sought involve only (B) Reporting requirements; or (G) Scheduling requirements of those required by 10 CFR 51.22(c)(25)(vi).

The NRC staff's determination that each of the applicable criteria for this categorical exclusion is met is justified as follows:

I. 10 CFR 51.22(c)(25)(i) There is no significant hazards consideration;

Staff Analysis: The criteria for determining if the exemption involves a significant hazards consideration are found in 10 CFR 50.92. The proposed action involves only a schedule change regarding the submission of an update to the application for which the licensing review is currently underway. Therefore, there are no significant hazard considerations because granting the proposed exemption would not:

(1) Involve a significant increase in the probability or consequences of an accident previously evaluated; or

(2) Create the possibility of a new or different kind of accident from any accident previously evaluated; or

(3) Involve a significant reduction in a margin of safety.

II. 10 CFR 51.22(c)(25)(ii) There is no significant change in the types or significant increase in the amounts of any effluents that may be released offsite;

Staff Analysis: The proposed action involves only a schedule change which is administrative in nature, and does not involve any changes to be made in the types or significant increase in the amounts of effluents that may be released offsite.

III. 10 CFR 51.22(c)(25)(iii) There is no significant increase in individual or cumulative public or occupational radiation exposure;

Staff Analysis: Since the proposed action involves only a schedule change, which is administrative in nature, it does not contribute to any significant increase in occupational or public radiation exposure.

IV. 10 CFR 51.22(c)(25)(iv) There is no significant construction impact;

Staff Analysis: The proposed action involves only a schedule change, which is administrative in nature. The application review is underway and no license will be issued prior to receipt of the afore-mentioned application's April 15, 2013, submittal of the revised FSAR, therefore, the proposed action does not involve any construction impact.

V. 10 CFR 51.22(c)(25)(v) There is no significant increase in the potential for or consequences from radiological accidents;

Staff Analysis: The proposed action involves only a schedule change which is administrative in nature and does not impact the probability or consequences of accidents.

VI. 10 CFR 51.22(c)(25)(vi) The requirements from which this exemption is sought involve only (B) Reporting requirements; or (G) Scheduling requirements of those required by this regulation.

(B) Reporting requirements; or (G) Scheduling requirements

Staff Analysis: The exemption request involves requirements in both of these categories (reporting requirements and scheduling requirements) because it involves submitting an updated FSAR by PPL Bell Bend, LLC and also relates to the schedule for submitting FSAR updates to the NRC.

4.0 Conclusion

Accordingly, the NRC has determined that, pursuant to 10 CFR 50.12, the exemption is authorized by law, will not present an undue risk to the public health and safety, and is consistent with the common defense and security. Also, special circumstances are present. Therefore, the NRC hereby grants PPL Bell Bend, LLC a one-time exemption from the requirements of 10 CFR 50.71(e)(3)(iii) pertaining to the BBNPP COL application to allow submittal of the next FSAR update, no later than April 15, 2013.

Pursuant to 10 CFR 51.22, the NRC has determined that the exemption request meets the applicable categorical exclusion criteria set forth in 10 CFR 51.22(c)(25), and the granting of this exemption will not have a significant impact on the human environment.

This exemption is effective upon issuance.

Dated at Rockville, Maryland, this 8th day of January 2013.
For the Nuclear Regulatory Commission.
John Segala,
Chief, Licensing Branch1, Division of New Reactor Licensing, Office of New Reactors.

[FR Doc. 2013-01148 Filed 1-18-13; 8:45 am]

BILLING CODE 7590-01-P